DEPARTMENT OF AGRICULTURE

Animal and Plant Health Inspection Service

[Docket No. APHIS-2014-0075]

Privacy Act of 1974; System of Records

AGENCY: Animal and Plant Health Inspection Service, USDA.

ACTION: Notice of a new system of records.

SUMMARY: The Animal and Plant Health Inspection Service proposes to add a system of records to its inventory of records systems subject to the Privacy Act of 1974, as amended. The system of records being proposed is the Agricultural Quarantine Activity System, USDA/APHIS-20. This notice is necessary to meet the requirements of the Privacy Act to publish in the Federal Register notice of the existence and character of record systems maintained by the agency. Although the Privacy Act requires only that the portion of the system which describes the “routine uses” of the system be published for comment, we invite comment on all portions of this notice.

DATES: In accordance with 5 U.S.C. 552a(e)(4) and (11), this notice will become applicable upon publication, subject to a 30-day notice and comment period in which to comment on the routine uses described below. Please submit any comments by September 13, 2019.

ADDRESSES: You may submit comments by either of the following methods:

• Federal eRulemaking Portal: Go to http://www.regulations.gov/#!docketDetail;D=APHIS-2014-0075.

• Postal Mail/Commercial Delivery: Send your comment to Docket No. APHIS-2014-0075, Regulatory Analysis and Development, PPD, APHIS, Station 3A-03.8, 4700 River Road, Unit 118, Riverdale, MD 20737-1238.

Supporting documents and any comments we receive on this docket may be viewed at http://www.regulations.gov/#!docketDetail;D=APHIS-2014-0075 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For general questions, please contact Mr. Emilio Vasquez, Business System Manager, QPAS, PPQ, APHIS, 4700 River Road, Unit 60, Riverdale, MD 20737; (301) 851-2257. For Privacy Act questions concerning this system of records notice, please contact Ms. Tonya Woods, Director, Freedom of Information and Privacy Act Staff, 4700 River Road, Unit 50, Riverdale, MD 20737; (301) 851-4076. For USDA Privacy Act questions, please contact the USDA Chief Privacy Officer, Information Security Center, Office of Chief Information Officer, USDA, Jamie L. Whitten Building, 1400 Independence Ave. SW, Washington, DC 20250; email: USDAPrivacy@ocio.usda.gov.

SUPPLEMENTARY INFORMATION: Pursuant to the provisions of the Privacy Act of 1974 (5 U.S.C. 552a), notice is given that the Animal and Plant Health Inspection Service (APHIS) of the U.S. Department of Agriculture (USDA) is proposing to add a new system of records, entitled the Agricultural Quarantine Activity System (AQAS), USDA/APHIS-20, which would be used to maintain a record of activities conducted by the agency pursuant to its mission and responsibilities authorized by the Plant Protection Act (7 U.S.C. 7701 et seq. and 7 U.S.C. 7781 et seq.); the Honey Bee Act (7 U.S.C. 281 et seq.); and the Animal Health Protection Act (7 U.S.C. 8301 et seq.).

APHIS' Plant Protection and Quarantine (PPQ) program and Department of Homeland Security's U.S. Customs and Border Protection (CBP) will use AQAS to record trade-related activities conducted inside the United States. The data associated with trade events includes shipment arrivals, quarantine activities, invasive pest interceptions, and other commodity inspection and pest exclusion actions. This system aids the free flow of agricultural goods into the country by collecting agricultural risk data that ultimately helps to minimize the impact of quarantine activities on trade. Additionally, it records activities conducted by APHIS within the U.S. borders pertaining to detecting the unlawful entry and distribution of prohibited and/or non-compliant products that may harbor exotic plant and animal pests, diseases, or invasive species. These activities are captured in AQAS via subsystems that are interrelated, web-based systems, and share a common platform. A complete listing of the subsystems is included in the purposes section of the document published with this notice.

APHIS will share information from the system pursuant to the requirements of the Privacy Act and, in the case of its routine uses, when the disclosure is compatible with the purpose for which the information was compiled. A full list of routine uses is included in the routine uses section of the document published with this notice.

A report on the new system of records, required by 5 U.S.C. 552a(r), as implemented by Office of Management and Budget Circular A-108, was sent to the Chairman, Committee on Homeland Security and Governmental Affairs, United States Senate; the Chairman, Committee on Oversight and Reform, House of Representatives; and the Administrator, Office of Information and Regulatory Affairs, Office of Management and Budget.

Done in Washington, DC, this 8th day of August 2019.
Kevin Shea,
Administrator, Animal and Plant Health Inspection Service.

USDA/APHIS-20

SYSTEM NAME AND NUMBER

Agricultural Quarantine Activity System (AQAS), USDA/APHIS-20.

SECURITY CLASSIFICATION:

None.

SYSTEM LOCATION:

AQAS servers, files, data, and software are hosted at the National Information Technology Center (NITC), 8930 Ward Parkway, Kansas City, MO. The AQAS backup system is located at NITC enterprise data centers at 4300 Goodfellow Blvd., St. Louis, MO.

SYSTEM MANAGER:

Director, Quarantine, Policy, Analysis and Support, Plant Health Programs, PPQ, APHIS, 4700 River Road, Unit 60, Riverdale, MD 20737.

AUTHORITY FOR MAINTENANCE OF THE SYSTEM:

The Plant Protection Act, 7 U.S.C. 7701 et seq. and 7 U.S.C. 7781 et seq.; the Honey Bee Act, 7 U.S.C. 281 et seq.; and the Animal Health Protection Act, 7 U.S.C. 8301 et seq.

PURPOSES OF THE SYSTEM:

The AQAS records agricultural quarantine activities conducted by U.S. Customs and Border Protection (CBP) and Animal and Plant Health Inspection Service (APHIS) employees at the U.S. ports of entry. This system also records agricultural quarantine activities conducted inside the United States that are related to trade. This system aids the free flow of agricultural goods into the country by collecting agricultural risk data that ultimately helps to minimize the impact of quarantine activities on trade. Additionally, it records activities conducted by APHIS within the U.S. borders pertaining to detecting the unlawful entry and distribution of prohibited and/or noncompliant products that may harbor exotic plant and animal pests, diseases, or invasive species.

AQAS consists of subsystems that are interrelated, web-based systems and share a common platform.

The AQAS subsystems include:

• AQIM—Agricultural Quarantine Inspection Monitoring System

• EAN—Emergency Action Notification Database

• Pest ID—Pest Interception Database

• PPQ280—Regulated Commodities Database

• PPQ264—Propagative Imports Notification Database

• Mail287—Mail Interception Notification Database

• WADS—Work Accomplishment Data System

The AQIM system provides a systematic approach to determining the risks of cargo approaching ports of entry into the United States by collecting specific pieces of data about randomly sampled shipments and analyzing the data to identify the high risk criteria and to target inspections accordingly. The EAN system tracks the issuance of Emergency Action Notifications. CBP and Plant Protection and Quarantine (PPQ) officers at U.S. ports of entry and throughout the country generate an EAN form when an actionable violation is detected related to prohibited pests and/or agricultural products found in foreign cargo or in U.S. marketplaces and domestic sites. The Pest ID system was developed to replace the PIN309 system and records pest interceptions in agricultural commodities at the U.S. ports of entry and throughout the country. The PIN309 system captured all of the data in the current Pest ID system and all data in the PIN309 system was migrated over to the Pest ID system. The PPQ280 system tracks fruits, vegetables, flowers, propagative material, logs, lumber, cotton products, and certain miscellaneous products imported or transiting through a port. It tracks the final disposition of the commodity, the number of shipments, the weight or volume, the type, and the country of origin of the commodity. The PPQ264 portion of the PPQ280 system is used by the PPQ Plant Inspection Stations to track imported propagative material and permitted organisms. The Mail287 system maintains records of Mail Interception Notices. This form documents noncompliant actions of persons who mail United States Department of Agriculture (USDA) regulated articles through postal mail processing facilities. Articles that are prohibited or restricted are often confiscated and the intended recipient is notified via this form. The WADS system records work activities related to agricultural quarantine inspections at U.S. ports of entry. WADS codes are designed to report on activities such as the number of foreign arriving passengers or cargo and number of inspections conducted. The purpose of the WADS system is to enable APHIS to set risk management priorities and to make staffing recommendations. WADS data are analyzed in conjunction with other AQAS data for risk analysis.

CATEGORIES OF INDIVIDUALS COVERED BY THE SYSTEM:

This system contains records associated with agricultural quarantine inspection activities conducted by CBP and PPQ at U.S. ports of entry. The records include the following categories of individuals: Foreign arrival passengers, senders and recipients listed on intercepted mail, agricultural commodity importers, shippers, carriers, owners, consignees, delivery contact persons, permit holders, and other individuals involved in the relevant programs or activities.

CATEGORIES OF RECORDS IN THE SYSTEM:

For foreign arrival passengers, agricultural commodity importers, shippers, carriers, owners, consignees, delivery contact persons, permit holders, and other individuals involved in the relevant programs or activities, the records include, but are not limited to, some or all of the following: Names, addresses, telephone and fax numbers, permit numbers, and/or emergency action notification form serial numbers. AQAS contains the names and addresses of the senders and recipients recorded on intercepted mail. This system may also contain targeting information used to categorize inspection activities associated with vehicles including name or type of carrier, voyage or flight data, and destination State. AQAS also contains the contact information of the CBP and APHIS inspection officials, including names, telephone numbers, and fax numbers.

RECORD SOURCE CATEGORIES:

Information within this system is obtained from the general public, import documents, CBP data systems, and from Federal and State regulatory officials, including APHIS and CBP employees.

ROUTINE USES OF RECORDS MAINTAINED IN THE SYSTEM, INCLUDING CATEGORIES OF USERS AND PURPOSES OF SUCH USES:

In addition to those disclosures generally permitted under 5 U.S.C. 552a(b) of the Privacy Act, records maintained in the system may be disclosed outside USDA, as follows, to the extent that such disclosures are compatible with the purposes for which the information was collected:

(1) To DHS CBP and other cooperating Federal or State government employees, or contractors performing or working on a contract, service, grant, cooperative agreement, or other assignment for USDA, when necessary, to accomplish an agency function related to this system of records. Individuals provided information under this routine use are subject to the same Privacy Act requirements and limitations on disclosure as are USDA officials and employees. Specific applications include, but are not limited to, issuing notifications for noncompliance to importers, shippers, property owners, mail recipients or addressees; informing State entities about upcoming plant shipments; using AQIM data to track and analyze various pathways and the commodities entering those pathways into the United States for purposes of pest risk management; and generating reports to evaluate quality control and effectiveness of the program;

(2) To appropriate law enforcement agencies, entities, and persons, whether Federal, foreign, State, Tribal, local, or other public authority responsible for enforcing, investigating, or prosecuting an alleged violation or a violation of law or charged with enforcing, implementing, or complying with a statute, rule, regulation, or order issued pursuant thereto, when a record in this system on its face, or in conjunction with other records, indicates a violation or potential violation of law, whether civil, criminal, or regulatory in nature, and whether arising by general statute or particular program statute, or by regulation, rule, or court order issued pursuant thereto, if the information disclosed is relevant to any enforcement, regulatory, investigative, or prosecutive responsibility of the receiving entity;

(3) To the Department of Justice when the agency, or any component thereof, or any employee of the agency in his or her official capacity, or any employee of the agency in his or her individual capacity where the Department of Justice has agreed to represent the employee, or the United States, in litigation, where the agency determines that litigation is likely to affect the agency or any of its components, is a party to litigation or has an interest in such litigation, and the use of such records by the Department of Justice is deemed by the agency to be relevant and necessary to the litigation; provided, however, that in each case, the agency determines that disclosure of the records to the Department of Justice is a use of the information contained in the records that is compatible with the purpose for which the records were collected;

(4) To a court or adjudicative body in administrative, civil, or criminal proceedings when: (a) The agency or any component thereof; or (b) any employee of the agency in his or her official capacity; or (c) any employee of the agency in his or her individual capacity where the agency has agreed to represent the employee; or (d) the United States Government, is a party to litigation or has an interest in such litigation, and by careful review, the agency determines that the records is therefore deemed by the agency to be for a purpose that is compatible with the purpose for which the agency collected the records;

(5) To appropriate agencies, entities, and persons when: (a) USDA suspects or has confirmed that there has been a breach of the system of records; (b) USDA has determined that as a result of the suspected or confirmed breach there is a risk of harm to individuals, USDA (including its information systems, programs, and operations), the Federal Government, or national security; and (c) the disclosure made to such agencies, entities, and persons is reasonably necessary to assist in connection with USDA's efforts to respond to the suspected or confirmed compromise and prevent, minimize, or remedy such harm;

(6) To another Federal agency or Federal entity, when the USDA determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach;

(7) To a Congressional office from the record of an individual in response to any inquiry from that Congressional office made at the written request of the individual to whom the record pertains;

(8) To USDA contractors and other parties engaged to assist in administering the program, analyzing data, and conducting audits. Such contractors and other parties will be bound by the nondisclosure provisions of the Privacy Act;

(9) To USDA contractors, partner agency employees or contractors, or private industry employed to identify patterns, trends, or anomalies indicative of fraud, waste, or abuse; and

(10) To the National Archives and Records Administration or to the General Services Administration for records management activities conducted under 44 U.S.C. 2904 and 2906.

POLICIES AND PRACTICES FOR STORAGE OF RECORDS:

The system includes a database and paper records. Records are maintained on magnetic hard-disk. Paper records, such as Emergency Action Notifications, are maintained in offices that are locked during non-business hours and require the presentation of employee identification for admittance at all times. Onsite storage includes the system and a daily backup of media. Backup media is transferred to an offsite storage facility after 30 days.

POLICIES AND PRACTICES FOR RETRIEVAL OF RECORDS:

Records are retrieved by an individual's name, business name, address, telephone number, fax number, email address, permit number, and/or emergency action notification form serial number associated with an importer, shipper, carrier, owner, consignee, delivery contact person, permit holder, and/or a sender and recipient on intercepted mail.

POLICIES AND PRACTICES FOR RETENTION AND DISPOSAL OF RECORDS:

Records will be retained indefinitely until appropriate disposition authority is obtained, and records will then be disposed of in accordance with the authority granted.

ADMINISTRATIVE, TECHNICAL, AND PHYSICAL SAFEGUARDS:

Records, both paper and electronic, are only accessible to authorized personnel. The following physical security measures are in place to prevent outsiders from entering the system:

Electronic records are stored on secure file servers. For electronic records, all AQAS users are required to complete a registration process. AQAS enables users to obtain user-identification accounts that allow password-protected access through the internet. The secure web-based service identifies and validates users before they can access this system.

Paper files are kept in a safeguarded environment with controlled access only by authorized personnel. All APHIS and CBP personnel are required to go through background and security checks. APHIS and CBP employees are also required to complete appropriate training to learn requirements for safeguarding records maintained under the Privacy Act. Access to the system is role-based. Therefore, CBP employees are limited to accessing records created by CBP or associated with a CBP work unit location.

RECORD ACCESS PROCEDURES:

An individual who is the subject of a record in this system may seek access to those records that are not exempt from the access provisions. Exemptions apply only to the extent that the information in the system is subject to exemption pursuant to 5 U.S.C. 552a(k)(2), if applicable. A determination whether a record may be accessed will be made at the time a request is received. All inquiries should be addressed under “Notification procedures.”

CONTESTING RECORD PROCEDURES:

Individuals seeking to contest or amend information maintained in the system should direct their requests to the address indicated in the “Notification procedures” section, below. Some information may be exempt from the amendment provisions, as described in the section entitled “Exemptions promulgated for the system.” An individual who is the subject of a record in this system may seek amendment of those records that are not exempt. A determination whether a record may be amended will be made at the time a request is received.

NOTIFICATION PROCEDURES:

Individuals seeking notification of and access to any non-exempt general information contained in this system of records, or seeking to contest its content, may submit a request in writing to the APHIS Freedom of Information Act (FOIA) Officer, whose contact information can be found at https://www.aphis.usda.gov/aphis/resources/foia. If an individual believes more than one component maintains Privacy Act records concerning him or her the individual may submit the request to the Chief FOIA Officer, Department of Agriculture, 1400 Independence Avenue SW, Washington, DC 20250.

When seeking records about yourself from this system of records or any other Departmental system of records, your request must conform with the Privacy Act regulations set forth in 6 CFR part 5. You must first verify your identity, meaning that you must provide your full name, current address, and date and place of birth. You must sign your request, and your signature must either be notarized or submitted under 28 U.S.C. 1746, a law that permits statements to be made under penalty or perjury as a substitute for notarization. In addition you should provide the following:

• An explanation of why you believe the Department would have information on you;

• Identify which component(s) of the Department you believe may have the information about you;

• Specify when you believe the records would have been created;

• Provide any other information that will help the FOIA staff determine which USDA component agency may have responsive records; and

• If your request is seeking records pertaining to another living individual, you must include a statement from that individual certifying his or her agreement for you to access his or her records.

Without this bulleted information and the component(s), we will not be able to conduct an effective search, and your request may be denied due to lack of specificity or lack of compliance with applicable regulations.

EXEMPTIONS PROMULGATED FOR THE SYSTEM:

None.

HISTORY:

N/A.

[FR Doc. 2019-17461 Filed 8-13-19; 8:45 am]

BILLING CODE 3410-34-P